ENVIRONMENTAL PROTECTION AGENCY

[EPA-R08-OW-2019-0404; FRL-10006-26-Region 8]

Proposed Information Collection Request; Comment Request; Filter Adoption Survey

AGENCY: Environmental Protection Agency (EPA).

ACTION: Notice.

SUMMARY: The Environmental Protection Agency is planning to submit an information collection request (ICR), “Filter Adoption Survey” (EPA ICR No. 2615.01, OMB Control No. 2008-New) to the Office of Management and Budget (OMB) for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before May 11, 2020.

ADDRESSES: Submit your comments, identified by Docket ID No. EPA-R08-OW-2019-0404, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets. Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Division, Environmental Protection Agency (EPA), Region 8, 1595 Wynkoop Street, Denver, Colorado 80202-1129. The EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Angelique Diaz, Ph.D., P.E., Section Chief, Drinking Water Section B, Water Division, 8WD-SDB, Environmental Protection Agency Region 8, 1595 Wynkoop Street, Denver, Colorado 80202-1129 telephone number: (303) 312-6344; email address: diaz.angelique@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register document to announce the submission of the ICR to OMB and the opportunity to submit additional comments to OMB.

Abstract: Denver Water is a public water system which must comply with applicable requirements of the lead and copper rule (LCR). On September 6, 2019 Denver Water submitted to the U.S. Environmental Protection Agency Region 8 office a request for a Variance from the optimal corrosion control treatment requirements under the Safe Drinking Water Act's LCR. The request included a multi-pronged approach to result in at least as efficient lead removal to orthophosphate, the designated optimal corrosion control treatment. Three of those prongs of the variance request are: pH and alkalinity adjustments to reduce corrosivity of the water; accelerated lead service line removal; and a filter program where Denver Water will distribute pitcher filters to consumers with known, suspected, and possible lead service lines. Under section 1415(a)(3) of the Safe Drinking Water Act, on December 16, 2019, the U.S. EPA granted Denver Water a variance from the definition of “optimal corrosion control treatment” in 40 CFR 141.2. The Variance contains requirements to determine the efficacy the filter program. EPA will use the survey results that Denver Water annually distributes, to determine the consumer filter adoption rate, and to confirm whether customers are using and maintaining the filters correctly, and per manufacturer's instructions. Each year, the filter adoption survey will be sent by Denver Water via postal mail to as many as 20,000 consumers that have known, suspected, and possible lead service lines. Surveys will be sent via direct mailings and will include an online completion option (the survey questions are included below). Direct mailings will be sent with a unique QR code to track which addresses responses have been received from. Surveys will be sent out in both English and Spanish. Additionally, Denver Water will annually conduct, in-person surveys at a minimum of 50 locations in use by customers enrolled in the filter program. Information being collected is information on if, and how, consumers use the filter (e.g., for drinking, cooking, or making infant-fed formula), whether the customers are using and maintain the filters correctly (e.g., washing, replacing the filters per manufacturer's instructions), as well as demographic information to inform filter adoption rate by neighborhood or demographic group so Denver Water's health equity and environmental justice principles set forth in their variance request can be evaluated.

Form numbers: 6700-009.

Respondents/affected entities: 2,000 people.

Respondent's obligation to respond: Voluntary.

Estimated number of respondents: 2,000.

Frequency of response: Annually for three years.

Total estimated burden: 1,284 hours per year.

Total estimated cost: $100,886 per year.

Filter Adoption Survey

1. Do you always, or most of the time, use your pitcher provided by Denver Water for drinking water?

· Yes.

· No—I use unfiltered tap water.

· No—I use bottled water or a different type of filtration system certified to remove lead in accordance with NSF/ANSI 53 standards (e.g., fridge, under the sink filter, sink-mounted filter).

2. Do you always, or most of the time, use your pitcher when you are cooking foods where water is a base ingredient (examples: making rice, beans, soup)?

· Yes

· No

2a. If your answer to No. 2 above is no, why are you not using the pitcher for cooking?

· Prefer to use unfiltered tap water.

· Prefer to use bottled water for cooking food.

· Prefer to use a different type of filtration system certified to remove lead in accordance with NSF/ANSI 53 standards (e.g., fridge filter, under the sink filter, sink-mounted filter).

· Do not cook.

Other

3. Do you have a formula-fed infant (under 24 months of age) in your household?

· Yes

· No

3a. If yes, what water do you always use to mix the formula (select all that apply)?

· Not applicable (I don't feed formula to my infant, or use pre-mix/ready mix)

· Water from the pitcher filter

· Bottled water

· Water filtered by an alternative filter device (fridge filter, under the sink filter, sink-mounted filter or other filter) certified to remove lead in accordance with NSF/ANSI 53 standards

· Unfiltered tap water

4. Have you or will you be replacing the pitcher's filter with the Denver Water provided replacement filters as recommended by the manufacturer?

· Yes

· No

○ If no, why not? (please describe)

5. The filter manufacturer recommends hand-washing the pitcher with a mild detergent. Are you cleaning your pitcher as recommended by the manufacturer?

· Yes

· No

6. What would make you more likely to use the pitcher provided? (Check all that apply)

¨ Larger pitcher

¨ Lighter pitcher

¨ Pitcher that fits in the refrigerator

¨ Pitcher that takes less time to fill

¨ Pitcher that takes less effort to use

¨ Not interested in filtering drinking water

¨ Do not cook or use tap water for cooking

¨ Other, please specify: (fill in the blank)

The questions below are optional. Denver Water will only use your demographic information for research purposes and to better inform our outreach and communication activities.

7a. Are you of Hispanic, Latino, or of Spanish origin?

Yes

No

7b. How would you describe yourself? (Check all that apply)

White

Black or African American

Native American or Alaska Native

Asian

Native Hawaiian and Other Pacific Islander

Multi-racial

Other (specify)

I do not know

Prefer not to say

8. What is the age of the youngest person in your household?

Someone in the household is expecting

Under 2 years old

2-6 years old

7-17 years old

18-24 years old

25-34 years old

35-44 years old

45-54 years old

Over 55 years old

Prefer not to say

9. What is the primary language of your household? (Check all that apply)

English

Spanish

Other (specify)

Prefer not to say

10. How much total combined money did all members of your household earn in 2018 (gross income)?

>$0-$29,999

$30,000-49,999

$50,000-79,999

$80,000-99,999

$100,000 or more

Prefer not to say

11. What is the highest level of school you have completed, or the highest degree you have received?

Less than high school degree

High school degree or equivalent (e.g., GED)

Some college but no degree

Associate degree

Bachelor's degree

Graduate degree

Prefer not to say

12. To which gender identity do you most identify?

Female

Male

Other

Prefer not to say

Dated: March 5, 2020.
Sarah Bahrman,
Chief, Safe Drinking Water Branch.

[FR Doc. 2020-05018 Filed 3-11-20; 8:45 am]

BILLING CODE 6560-50-P